DEPARTMENT OF HEALTH AND HUMAN SERVICES

Agency for Healthcare Research and Quality

Notice of Meeting

In accordance with section 10(d) of the Federal Advisory Committee Act as amended (5 U.S.C., Appendix 2), the Agency for Healthcare Research and Quality (AHRQ) announces this meeting of scientific peer review groups. The subcommittee listed below is a part of the Agency's Health Services Research Initial Review Group Committee.

The subcommittee meeting will be closed to the public in accordance with the Federal Advisory Committee Act, section 10(d) of 5 U.S.C., Appendix 2 and 5 U.S.C. 552b(c)(6). Grant applications are to be reviewed and discussed at this meeting. These discussions are likely to involve information concerning individuals associated with the applications, including assessments of their personal qualifications to conduct their proposed projects. This information is exempt from mandatory disclosure under the above-cited statutes.

Name of Subcommittee: Health Care Research Training (2) Virtual Review.

Date: July 12, 2012 (Open from 1:00 p.m. to 1:15 p.m. on July 12 and closed for remainder of the meeting).

Place: Agency for Healthcare Research and Quality, John Eisenberg Building, 540 Gaither Road, OEREP Conference Room, Rockville, MD 20850.

Contact Person: Anyone wishing to obtain a roster of members, agenda or minutes of the nonconfidential portions of the meeting should contact Mrs. Bonnie Campbell, Committee Management Officer, Office of Extramural Research, Education and Priority Populations, AHRQ, 540 Gaither Road, Suite 2000, Rockville, Maryland 20850, Telephone (301) 427-1554.

Agenda items for these meetings are subject to change as priorities dictate.

Dated: June 14, 2012.
Carolyn M. Clancy,
Director.

[FR Doc. 2012-15611 Filed 6-26-12; 8:45 am]

BILLING CODE 4160-90-M